ENVIRONMENTAL PROTECTION AGENCY

[ER-FRL-6635-5]

Environmental Impact Statements; Notice of Availability

Responsible Agency: Office of Federal Activities, General Information (202) 564-7167 or http//www.epa.gov/compliance/nepa/. Weekly receipt of Environmental Impact Statements filed November 25, 2002, through November 29, 2002, pursuant to 40 CFR 1506.9.

EIS No. 020485, Final Supplement, AFS, WI, MI, Bond Falls Hydroelectric Project Related to Terms and Conditions for Geology and Soils, Water Quality and Quantity, Fisheries, Terrestrial, Recreation, Aesthetic, Cultural, Socieoeconomic and Land Use Resources, Ontonagon River Basin, Valas County, WI and Ontonagon and Gogebic Counties, MI, Wait Period Ends: January 6, 2003, Contact: Karen Steven (906) 932-1330.

EIS No. 020486, FINAL EIS, SFW, AZ, Roosevelt Habitat Conservation Plan, Issuance of an Incidental Take Permit To Allow Continued Operation of Roosevelt Dam and Lake, Implementation, Gila and Maricopa Counties, AZ, Wait Period Ends: January 6, 2003, Contact: Sherry Barrett (520) 670-4617.

EIS No. 020487, FINAL EIS, FTA, NC, Phase I Regional Rail System Improvements, Durham to Raleigh to North Raleigh, Implementation, Durham and Wake Counties, NC, Wait Period Ends: January 6, 2003, Contact: Alex McNeil (404) 562-3511. This document is available on the Internet at: http://www.rideTTA.org.

EIS No. 020488, FINAL SUPPLEMENT, AFS, WY, Squirrel Meadows Grand Targhee Land Exchange Proposal, New Information and Current Environmental and Socioeconomic Conditions, Implementation, Targhee National Forest, Teton County, NY, Wait Period Ends: January 6, 2003, Contact: Cheryl Probert (208) 557-5821.

EIS No. 020489, DRAFT EIS, AFS, NM, Sacramento, Dry Canyon and Davis Grazing Allotments, Proposal to Authorize Livestock Grazing Activities, Lincoln National Forest, Sacramento Ranger District, Otero County, NM, Comment Period Ends: January 27, 2003, Contact: Frank R. Martinez (505) 682-2551.

EIS No. 020490, DRAFT EIS, AFS, AK, Licking Creek Timber Sale, Proposal To Harvest up To Approximately 33,5456 CCF (16.8 MMBF) of Timber, Tongass National Forest, Ketchikan-Misty Fiords Ranger District, Revillagigedo Island, Ketchikan, AK, Comment Period Ends: January 21, 2003, Contact: Kathy O'Connor (907) 228-4124.

EIS No. 020491, DRAFT EIS, FHW, MN, Trunk Highway 371 Corridor Project, Construction from Junction with U.S. Truck Highway 10 to 0.5 miles North to County State Aid Highway 48, Morrison County, MN, Comment Period Ends: February 10, 2003, Contact: Cheryl Martin (651) 291-6120.

EIS No. 020492, DRAFT SUPPLEMENT, COE, TX, Dallas Floodway Extension (DFE) Project, Additional Information, Upper Trinity River Basin, Flood Damage Reduction and Environmental Restoration, Dallas County, TX, Comment Period Ends: January 21, 2003, Contact: Gene T. Rice, Jr. (817) 886-1374.

EIS No. 020493, DRAFT EIS, COE, CA, San Diego Harbor Deepening (Central Navigation Channel) Involves Three Components: Deepening Federal Central Navigation Channel; Disposal of the Dredged Material at the LA-5 Ocean Disposal Site and Relocation, Disposal and Abandonment of a 69 kV Electrical Site, San Diego County, Comment Period Ends: January 21, 2003, Contact: Joy Jaiswal (213) 452-3851.

EIS No. 020494, DRAFT EIS, AFS, WI, Cayuga Project Area, To Implement Various Resource Management Projects, Chequamegon-Nicolet National Forest, Great Divide Ranger District, Ashland County, WI, Comment Period Ends: January 21, 2003, Contact: Debra Sigmund (715) 634-4821. This document is available on the Internet at: http://www.fs.fed.us/r9/cnnf/natres/index.htm1.

EIS No. 020495, DRAFT EIS, NPS, FL, Biscayne National Park General Management Plan Amendment, To Evaluate the Effects of Several Alternatives for the Long-Term Management Plan, Stillsville, Biscayne National Park, Homestead, Miami-Dade County, FL, Comment Period Ends: February 13, 2003, Contact: Linda Canzanelli (305) 230-1144. This document is available on the Internet at: http://www.nps.gov/bisc/stiltsvillewelcome.htm.

EIS No. 020496, FINAL EIS, AFS, CA, Red Star Restoration Project, Removal of Fire-Killed Trees, Fuel Reduction, Road Reconstruction and Decommissioning and Associated Restoration, Tahoe National Forest, Foresthill Ranger District, Placer County, CA, Wait Period Ends: January 06, 2003, Contact: Karen Jones (530) 367-2224. This document is available on the Internet at: http://www.r5.fs.fed.us/tahoe/management.

EIS No. 020497, FINAL EIS, DOE, WA, Grand Coulee-Bell 500-kV Transmission Line Project, Construction and Operation, U.S. Army COE Section 10 Permit Issuance, Douglas, Lincoln, Spokane and Grant Counties, WA, Wait Period Ends: January 06, 2003, Contact: Inez Graetzer (503) 230-3786.

Amended Notices

EIS No. 020473, DRAFT EIS, BLM, NV, Ivanpah Energy Center Project, Proposes to Construct and Operate a 500 Megawatt (MW) Gas-Fired Electric Power Generating Station in Southern Clark County, NV, Due: January 21, 2003, Contact: Jerrold E. Crockford (505) 599-6333. Revision of FR Notice Published on 11/22/2002: CEQ Comment Period Ending 1/3/2003 has been Corrected to 1/21/2003.

EIS No. 020475, DRAFT EIS, USN, CA, China Lake Naval Air Weapons Station, Proposed Military Operational Increases and Implementation of Associated Comprehensive Land Use and Integrated Natural Resources Management Plans, Located in the North and South Range, Inyo, Kern and San Bernardino Counties, CA, Due: February 18, 2003, Contact: John O'Gara (976) 939-3614. Revision of FR Notice Published on 11/22/2002: Contact Person's Phone Number Corrected from 076-093-9321 to 760-939-3614.

Dated: December 3, 2002.
B. Katherine Biggs,
Associate Director, NEPA Compliance Division, Office of Federal Activities.

[FR Doc. 02-30948 Filed 12-5-02; 8:45 am]

BILLING CODE 6560-50-P